FEDERAL COMMUNICATIONS COMMISSION

47 CFR Part 64

[CG Docket No. 03-123; DA 05-3139]

Telecommunications Relay Services and Speech-to-Speech Services for Individuals With Hearing and Speech Disabilities

AGENCY: Federal Communications Commission.

ACTION: Final rule; expiration of waiver.

SUMMARY: In this document, the Commission extends for an additional year the waiver of the emergency (911) call handling requirement for providers of Video Relay Service (VRS). The Commission extends the waiver for one year in view of continued technological challenges to determining the geographic location of telecommunications relay service (TRS) calls that originate via the Internet, and the VRS 911 NPRM addressing the issue.

DATES: The waiver of the emergency (911) call handling requirement will expire on January 1, 2007, or upon the release of an order addressing the VRS emergency (911) call handling issue, whichever comes first.

FOR FURTHER INFORMATION CONTACT: Thomas Chandler, (202) 418-1475 (voice), (202) 418-0597 (TTY), or e-mail Thomas.Chandler@fcc.gov.

SUPPLEMENTARY INFORMATION: On December 31, 2001, the Commission released Telecommunications Relay Services and Speech-to-Speech Services for Individuals with Hearing and Speech Disabilities, Waiver Order, DA 01-3029, CC Docket No. 98-67, 17 FCC Rcd 157 (2001), granting VRS providers a waiver until December 31, 2003, of certain TRS mandatory minimum standards, including the emergency call handling requirement. On December 19, 2003, the Commission released Telecommunications Relay Services and Speech-to-Speech Services for Individuals with Hearing and Speech Disabilities, Order, DA 03-4029, CC Docket No. 98-67, 18 FCC Rcd 26309 (2003), extending the waiver to June 30, 2004. On June 30, 2004, the Commission released Telecommunications Relay Services and Speech-to-Speech Services for Individuals with Hearing and Speech Disabilities, 2004 TRS Report and Order, FCC 04-137, CC Docket No. 98-67, which published in the Federal Register on September 1, 2004 (69 FR 53382) again extending the waiver until January 1, 2006. This is a summary of the Commission's Order DA 05-3139, adopted December 2, 2005, released December 5, 2005. To request materials in accessible formats for people with disabilities (Braille, large print, electronic files, audio format), send an e-mail to fcc504@fcc.gov or call the Consumer & Governmental Affairs Bureau at (202) 418-0530 (voice) or (202) 418-0432 (TTY). The Commission's Order DA 05-3139 can also be downloaded in Word and Portable Document Format (PDF) at http://www.fcc.gov/cgb.dro.

Synopsis

The Commission's TRS regulations set forth operational, technical, and functional mandatory minimum standards applicable to the provision of TRS. See 47 CFR 64.604 (the TRS “mandatory minimum standards”). These standards apply to all forms of TRS when they are offered, unless they are waived. Therefore, to be eligible for reimbursement from the Interstate TRS Fund for the provision of TRS, the provider must meet all applicable non-waived mandatory minimum standards. See Telecommunications Relay Services and Speech-to-Speech Services for Individuals with Hearing and Speech Disabilities, Report and Order and Further Notice of Proposed Rulemaking (Improved TRS Order and FNPRM), FCC 00-56, CC Docket No. 98-67, which published in the Federal Register on June 21, 2000 (65 FR 38432).

The TRS mandatory minimum standards require TRS providers to handle emergency calls. See 47 CFR 64.604(a)(4) (requiring TRS providers to automatically and immediately transfer emergency calls to an appropriate public safety answering point (PSAP)); 2004 TRS Report and Order, 19 FCC Rcd at 12521, paragraph 116. The Commission has recognized that, although persons with hearing and speech disabilities should generally make emergency calls directly to the PSAP by calling 911 (e.g., via a TTY), many such individuals use TRS to contact emergency services.

In March 2000, the Commission recognized VRS as a form of TRS eligible for compensation from the Interstate TRS Fund. See Improved TRS Order and FNPRM, 15 FCC Rcd 5152-5154, paragraphs 21-27. On December 31, 2001, the Commission granted VRS providers a waiver until December 31, 2003, of certain TRS mandatory minimum standards, including the emergency call handling requirement. This waiver was ultimately extended to January 1, 2006. See 2004 TRS Report and Order, 19 FCC Rcd 12522, paragraph 118.

On November 30, 2005, the Commission released the VRS 911 NPRM, seeking comment on how providers of the Internet-based TRS services, including VRS, may determine the appropriate PSAP to contact when they receive an emergency call. See Telecommunications Relay Services and Speech-to-Speech Services for Individuals with Hearing and Speech Disabilities; Access to Emergency Services, Notice of Proposed Rulemaking (VRS 911 NPRM), FCC 05-196, CG Docket No. 05-123. The Commission noted the importance of emergency access for VRS users and the necessity to find a means to ensure that VRS calls seeking emergency assistance can be promptly routed to the appropriate emergency service provider. VRS 911 NPRM, at paragraphs 1-2, 18.

Discussion

The Commission may waive a provision of its rules for “good cause shown.” 47 CFR 1.3; see generally 2004 TRS Report and Order, 19 FCC Rcd 12520, paragraph 110 (discussing standard for waiving Commission rules). In view of the continued technological challenges to determining the geographic location of TRS calls originating via the Internet, including VRS calls, as well as the recently released VRS 911 NPRM seeking comment on this issue, the Commission finds good cause exists to extend the waiver of the emergency call handling requirement for VRS providers until January 1, 2007 or upon the release of an order addressing the emergency (911) call handling issue, whichever comes first. This waiver, like the previous waivers, is conditioned upon the filing of annual reports, due each April 16th, addressing whether it is necessary for the waiver to remain in effect. See 2004 TRS Report and Order, 19 FCC Rcd 12520-12521, paragraph 111 (detailing required contents of annual waiver reports). The Commission notes that in the 2005 annual reports the VRS providers agreed that it is not technologically feasible to automatically route emergency calls to the appropriate PSAP, because they do not obtain location information from the VRS user initiating the call via the Internet. See AT&T Corp., 2005 Annual Report on TRS Waivers at 2 (filed on April 18, 2005); Communications Access Center for the Deaf and Hard of Hearing, 2005 Annual Report on Progress of Meeting Waived Requirements at 1-2 (undated); Hamilton Relay, Inc., 2005 Annual Report Concerning IP Relay and VRS at 1-3 (filed on April 15, 2005); Hands On Video Relay Services, Inc., 2005 Annual Report on Progress of Meeting Waived Requirements at 2-3; MCI, 2005 Report on the Status of Waived IP-Relay and Video Relay Services at 11-12 (filed on April 16, 2005); Sorenson Media, Inc., 2005 Annual Report on Status of Waived VRS Requirements at 1-3 (filed on April 15, 2005); Sprint Corporation, 2005 Annual Internet Relay and Video Relay Service Progress Report at 2 (filed on April 14, 2005). Accordingly, the emergency call handling waiver for VRS will expire on January 1, 2007, or upon the release of an order addressing this issue, whichever comes first.

Ordering Clause

Pursuant to the authority contained in Sections 0.141, 0.361, 1.3 of the Commission rules, 47 CFR 0.141, 0.361, 1.3, the Order is adopted.

Federal Communications Commission.
Jay Keithley,
Deputy Bureau Chief, Consumer & Governmental Affairs Bureau.

[FR Doc. 05-24418 Filed 12-27-05; 8:45 am]

BILLING CODE 6712-01-P